DEPARTMENT OF HOMELAND SECURITY

Transportation Security Administration

Drivers Licensed in Canada or Mexico Transporting Hazardous Materials Within the United States

AGENCY: Transportation Security Administration, DHS.

ACTION: Notice.

SUMMARY: This Notice announces an extension of the deadline for implementation of Section 7105 of the Safe, Accountable, Flexible, Efficient Transportation Equity Act: A Legacy for Users. This provision requires operators of commercial motor vehicles registered to operate in Canada or Mexico who transport placarded loads of hazardous materials or any quantity of a material listed as a select agent or toxin in 42 CFR part 73 within the United States to undergo a background check similar to that required for U.S. operators with a hazardous materials endorsement. The Transportation Security Administration is extending the implementation deadline for the requirements under Section 7105 from February 10, 2006 to August 10, 2006, unless the Transportation Security Administration issues a Notice or other regulatory action before that date with an earlier date for implementing the requirements under the statute.

DATES: Effective upon publication in the Federal Register.

FOR FURTHER INFORMATION CONTACT: Mr. Stephen Sadler, Director, Maritime and Surface Credentialing, Office of Transportation Threat Assessment and Credentialing, TSA-19, Transportation Security Administration, 601 South 12th Street, Arlington, VA 22202-4220; telephone (571) 227-2492; facsimile (703) 603-0409; e-mail stephen.sadler@dhs.gov.

SUPPLEMENTARY INFORMATION: On August 10, 2005, the Safe, Accountable, Flexible, Efficient Transportation Equity Act: A Legacy for Users (SAFETEA-LU) ¹ was enacted. Section 7105 of the SAFETEA-LU provides that a commercial motor vehicle operator registered to operate in Canada or Mexico shall not operate a commercial motor vehicle transporting hazardous materials in commerce in the United States until the operator has undergone a background records check similar to that required of commercial motor vehicle operators licensed in the United States to transport hazardous materials in commerce. This requirement becomes effective 6 months after enactment of the SAFETEA-LU, which would be February 10, 2006. However, the statute also gives TSA the discretion to extend the implementation date an additional six months if necessary. This Notice announces TSA's decision to extend the implementation date until such time as TSA issues a separate notice or regulatory action to implement the SAFETEA-LU requirements, but no later than August 10, 2006.

¹ Pub. L. 109-59, August 10, 2005, sec. 7105, codified at 49 U.S.C. 5103a(h).

Accordingly, the effective date of section 7105 of the Safe, Accountable, Flexible, Efficient Transportation Equity Act: A Legacy for Users (SAFETEA-LU) is extended to August 10, 2006, unless TSA issues a Notice or other regulatory action before that date with an earlier date for implementing the requirements under the statute.

Issued in Arlington, Virginia, on February 6, 2006.
Kip Hawley,
Assistant Secretary.

[FR Doc. 06-1247 Filed 2-7-06; 1:47 pm]

BILLING CODE 4910-62-M